DEPARTMENT OF TRANSPORTATION

Surface Transportation Board

[STB Finance Docket No. 34212]

Central Railroad Company of Indianapolis—Trackage Rights Exemption—Norfolk Southern Railway Company

Norfolk Southern Railway Company (NSR), pursuant to a written trackage rights agreement entered into between NSR and Central Railroad Company of Indianapolis (CERA) ¹ has agreed to grant overhead and limited local trackage rights to CERA over a portion of NSR's track (1) from CERA's connection with NSR and the trackage of the West Marion Belt at Michael, IN, at milepost TS-157.44, to the connection between the West Marion Belt and the trackage of Winamac Southern Railroad Company adjacent to NSR-operated Goodman Yard at Marion, IN, and (2) from CERA's connection with NSR at milepost TS-157.44, through the switch serving Bell Fiber Corporation at milepost TS-155.6, to, and including, the switch serving Essex Wire, Incorporated, at milepost TS-154.65, a total distance of approximately 5 miles.

¹ On June 14, 2002, CERA concurrently filed a notice of exemption in STB Finance Docket No. 34221, Central Railroad Company of Indianapolis—Acquisition and Control Exemption—Norfolk Southern Railway Company, wherein CERA would acquire and continue to operate approximately 31.66 miles of railroad from NSR, which runs between (1) Kokomo, IN, milepost I-51.8 and near Kokomo, IN milepost I-57.2, and (2) near West Marion Belt, IN, milepost TS-157.44, and Kokomo, IN, milepost TS-183.7.

The transaction was scheduled to be consummated on or shortly after June 21, 2002, the effective date of the exemption (7 days after the notice was filed).

The trackage rights will allow CERA to enhance rail service for certain shippers and provide more efficient and economical routings and service for the shippers' traffic.

As a condition to this exemption, any employees affected by the trackage rights will be protected by the conditions imposed in Norfolk and Western Ry. Co.—Trackage Rights-BN, 354 I.C.C. 605 (1978), as modified in Mendocino Coast Ry., Inc.—Lease and Operate, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the transaction.

An original and 10 copies of all pleadings, referring to STB Finance Docket No. 34212, must be filed with the Surface Transportation Board, 1925 K Street, NW., Washington, DC 20423-0001. In addition, a copy of each pleading must be served on Louis E. Gitomer, 1455 F Street, NW., Suite 225, Washington, DC 20005.

Board decisions and notices are available on our website at www.stb.dot.gov.

Decided: June 27, 2002.
By the Board, David M. Konschnik, Director, Office of Proceedings.
Vernon A. Williams,
Secretary.

[FR Doc. 02-16720 Filed 7-2-02; 8:45 am]

BILLING CODE 4915-00-P